FEDERAL MARITIME COMMISSION

Notice of Agreements Filed

The Commission hereby gives notice of the filing of the following agreement under the Shipping Act of 1984. Interested parties may submit comments, relevant information, or documents regarding the agreement to the Secretary by email at Secretary@fmc.gov, or by mail, Federal Maritime Commission, 800 North Capitol Street Washington, DC 20573. Comments will be most helpful to the Commission if received within 12 days of the date this notice appears in the Federal Register, and the Commission requests that comments be submitted within 7 days on agreements that request expedited review. Copies of the agreement are available through the Commission's website (www.fmc.gov) or by contacting the Office of Agreements at (202)-523-5793 or tradeanalysis@fmc.gov.

Agreement No.: 011931-012.

Agreement Name: CMA CGM/Marfret Vessel Sharing Agreement for PAD Service.

Parties: CMA CGM S.A.; Maritime Marfret S.A.S.

Filing Party: Draughn Arbona; CMA CGM (America) LLC.

Synopsis: The Amendment expands the agreement's geographic scope to include Colombia and revises the agreed reefer slot allocation.

Proposed Effective Date: 4/21/2025.

Location: https://www2.fmc.gov/FMC.Agreements.Web/Public/AgreementHistory/512.

Dated: March 14, 2025.
Alanna Beck,
Federal Register Alternate Liaison Officer.

[FR Doc. 2025-04561 Filed 3-18-25; 8:45 am]

BILLING CODE 6730-02-P